SURFACE TRANSPORTATION BOARD

[Docket No. FD 36370]

CCET, LLC d/b/a Cincinnati Eastern Railroad—Lease and Operation Exemption—Norfolk Southern Railway Company

CCET, LLC d/b/a Cincinnati Eastern Railroad (CCET), a Class III railroad, has filed a verified notice of exemption under 49 CFR 1150.41 to continue its lease of, and its provision of railroad common carrier service over, approximately 69.45 route miles of railroad owned by Norfolk Southern Railway Company (NSR), from milepost CT 9.0 at Clare, Ohio, at its west end, to milepost CT 78.45 at Mineral Springs, Ohio (the Line).

CCET states that it and NSR are parties to an agreement under which CCET has acquired a leasehold interest in, and operates, the Line, segments of which were leased to CCET in sequence beginning in 2014.¹ The verified notice indicates that recently, CCET and NSR agreed to amend the underlying lease agreement, including an extension of the term.

¹ See CCET, LLC—Lease & Operation Exemption—Rail Line of Norfolk S. Ry. in Adams Cty., Ohio, FD 36079 (STB served Dec. 7, 2016); CCET, LLC—Lease & Operation Exemption—Rail Line of Norfolk S. Ry. in Clermont, Brown, & Adams Ctys., Ohio, FD 35900 (STB served Feb. 6, 2015); CCET, LLC—Lease & Operation Exemption—Rail Line of Norfolk S. Ry., FD 35810 (STB served Apr. 4, 2014).

According to CCET, the amended lease agreement between CCET and NSR does not contain any provision that prohibits, restricts, or otherwise limits, interchange of traffic with any third-party carrier.

CCET certifies that its projected annual revenues as a result of the proposed transaction will not exceed $5 million and that the transaction will not result in the creation of a Class II or Class I rail carrier.

This transaction may be consummated on or after January 9, 2020, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than January 2, 2020 (at least seven days before the exemption becomes effective).

All pleadings, referring to Docket No. FD 36370, must be filed with the Surface Transportation Board either via e-filing or in writing addressed to 395 E Street SW, Washington, DC 20423-0001. In addition, a copy of each pleading must be served on CCET's representative, Robert A. Wimbish, Fletcher & Sippel LLC, 29 North Wacker Drive, Suite 800, Chicago, IL 60606-3208.

According to CCET, this action is categorically excluded from environmental review under 49 CFR 1105.6(c) and from historic preservation reporting requirements under 49 CFR 1105.8(b).

Board decisions and notices are available at www.stb.gov.

Decided: December 18, 2019.
By the Board, Scott M. Zimmerman, Acting Director, Office of Proceedings.
Jeffrey Herzig,
Clearance Clerk.

[FR Doc. 2019-27674 Filed 12-23-19; 8:45 am]

BILLING CODE 4915-01-P